GENERAL SERVICES ADMINISTRATION

[Notice-CIO-2016-01; Docket No. 2016-0002; Sequence No. 26]

Grace Hopper Day Hackathon

AGENCY: Chief Information Office, General Services Administration (GSA).

ACTION: Notice.

SUMMARY: This notice is to announce a competition for all open source contributors to redesign the GSA Open Web site, http://open.gsa.gov, the current developer portal for all GSA data, APIs, and source code open to the public. This competition is hosted by GSA's IT Digital Services team. The competition details can be viewed at: http://open.gsa.gov/grace-hopper-hackathon/. The goal of this redesign is to improve public engagement with GSA digital assets, and increase understanding and awareness of agency open technology. GSA challenges developers and designers from industry, academia, and Federal Government to create solutions using the site product roadmap provided on the competition details Web page.

DATES: Online registration for this event will open on November 22, 2016, and will close Tuesday, December 6, 2016, at 11:59 p.m. Eastern Standard Time (EST). The competition will take place on Friday; December 9, 2016, from 9:00 a.m. until 4:30 p.m., EST; check in will begin at 8:00 a.m., EST.

ADDRESSES: Registration: Registration for this event will be accomplished online at the following link: http://open.gsa.gov/grace-hopper-hackathon/.

The event space is limited to the first 100 people. Once registration is complete, participants will receive a confirmation email.

Event Location: GSA Headquarters, 1800 F Street NW., Washington, DC 20405. A government-issued ID shall be required to gain access into the building. All participants must enter through the main entrance located on 1800 F Street NW., Washington, DC 20405.

FOR FURTHER INFORMATION CONTACT: Contact Ms. Cindy A. Smith, at cindya.smith@gsa.gov or 816-823-5291.

SUPPLEMENTARY INFORMATION: Purpose: In this competition, participants are asked to redesign the GSA Open Web site, http://open.gsa.gov.

Details of Challenge: Participants will be asked to redesign the current developer portal open.gsa.gov.

The solution should be a usability-driven feature to encourage public engagement with the site and GSA digital assets.

Predetermined teams (consisting of up to 5 individuals) are welcome to include a stand-alone or mix of private industry, academia, and eligible individuals. Cash prizes will be awarded to the best projects.

Data: Event information will be posted on the event page at, http://open.gsa.gov/grace-hopper-hackathon/.

Project: Participants are asked to redesign the GSA Open Web site, http://open.gsa.gov, the current developer portal for all GSA data, APIs, and source code open to the public.

Eligibility for Challenge: Eligibility to participate in the Grace Hopper Day Hackathon, and win a prize, is limited to entities/individuals who—

1. Have registered to participate in the Competition, and complied with the rules of the competition as explained in this posting.

2. Have been incorporated in, and maintain, a primary place of business in the United States. In the case of an individual, whether participating singly or in a group, the participant must be a citizen or permanent resident of the United States. Participants must be at least 18 years of age to participate in this event.

Participants may not be a Federal entity or Federal employee acting within the scope of employment. However, an individual or entity shall not be deemed ineligible to win prize money because the individual or entity used Federal facilities or consulted with Federal employees during a competition, if the facilities and employees are made available to all individuals and entities participating in the competition on an equitable basis.

Participants agree to assume any and all risks and waive claims against the Federal Government and its related entities, except in the case of willful misconduct, for any injury, death, damage, or loss of property, revenue, or profits, whether direct, indirect, or consequential, arising from participation in this competition, whether the injury, death, damage, or loss arose through negligence or otherwise. Entrants are not required to obtain liability insurance or demonstrate financial responsibility in order to participate in this competition.

As the Federal Government is under a strict duty not to give preferential treatment to any private organization or individual, participants must agree to take diligent care to avoid the appearance of government endorsement of competition participation and submission. Participants must agree not to refer to the government's use of their submission (be it product or service) in any commercial advertising or similar promotions in a manner that could reasonably imply (in the judgment of a reasonable person) that GSA or the Federal Government endorses, prefers, sponsors, or has an affiliation with participants' products or services. Participants agree that GSA's trademarks, logos, service marks, trade names, or the fact that GSA awarded a prize to a participant, shall not be used by the participant to imply direct GSA endorsement of participant or participant's submission. Both participants and GSA may list the other party's name in a publicly available customer or other list so long as the name is not displayed in a more prominent fashion than any other third-party name.

Prizes: GSA may award prizes of no more than $1,000 to each member of a winning team (3 team's total). GSA is not required to award all prizes if the judges determine that a smaller number of entries meet the scope and requirements laid out for this competition, or if the agency only plans to use code from a smaller number of entries.

Funding for the Grace Hopper Day Hackathon awards will come from GSA. Prizes will be awarded to each member of a winning team via Electronic Funds Transfer (EFT), within 60 days of announcing the winner(s).

Requirements: The final solution should be open source code submitted as a pull request to the https://github.com/GSA/open-gsa-redesign GitHub repository. “Open source” refers to a program in which the source code is available to the general public for use and/or modification from its original design free of charge. In order to be Open Source Initiative Certified, the solution must meet the following nine criteria:

1. The author or holder of the license of the source code cannot collect royalties on the distribution of the code.

2. The distributed software must make the source code accessible to the user.

3. The author must allow modifications and derivations of the work under the software's original name.

4. No person, group, or field of endeavor can be denied access to the software.

5. The rights attached to the software must not depend on the software being part of a particular software distribution.

6. The licensed software cannot place restrictions on other software that is distributed with it.

7. The solution must be an online, interactive solution that meets the goals and objectives provided in this document.

8. The solution must include documentation of all data sources used.

9. The solution must include a description of how the solution can be updated with additional data from other agencies, if applicable.

The winner(s) of the competition will, in consideration of the prize(s) to be awarded, grant to GSA a perpetual, non-exclusive, royalty-free license to use any and all intellectual property to the winning entry for any governmental purpose, including the right to permit such use by any other agency or agencies of the Federal Government. All other rights of the winning entrant will be retained by the winner of the competition.

Scope: Any federal data and information that is publicly available is included in the scope of this challenge.

Judges: There will be a panel of judges, each with expertise in government-wide policy, information technology, and/or acquisition. Judges will award a score to each submission. The winner(s) of the competition will be decided based on the highest average overall score. Judges will only participate in judging submissions for which they do not have any conflicts of interest.

Judging Criteria: Each solution will be assessed based on technical competence and capabilities, use of design best practices to improve usability, creativity/innovation, and valuable information and insights.

Submissions will be judged based on the following metrics—

Technical competence and capabilities/Weight 50 percent: The solution addresses the primary goals of the competition. It is a finished feature that can improve Web site interaction with existing and potential customers, increase understanding and use of GSA open assets, and/or increase public engagement with GSA data, APIs and code.

Use of design best practices to improve usability/Weight 20 percent: The solution displays in a way that is easy to understand, visually appealing, and will help drive understanding of GSA open assets as well as engagement.

Creativity/Innovation/Weight 10 percent: The solution exceeds any internal capability that GSA has for Web site development through its incorporation of creative design elements and innovative capabilities.

Valuable information & insights regarding data/Weight 20 percent: The solver provides recommendations for additional functionality to the submitted feature for implementation by GSA. The solver identifies gaps in the feature and suggests additional enhancements to aid the agency in setting future product roadmap releases.

Challenge Objectives:

• Increase public understanding and use of GSA digital assets. Improve open.gsa.gov Web site interaction with existing and potential customers.

• Increase public engagement with GSA data, APIs and code.

• Post all open source solutions on the GSA https://github.com/GSA/open-gsa-redesign repository for future use by the federal government developer community and GSA.

All participants are required to check in with Security upon arriving at the GSA Central Office Building. Follow the posted signs to the GSA Auditorium. All participants must sign the document titled: Gratuitous Service Agreement.

Dated: November 16, 2016.
Steve Grewal,
Deputy, Chief Information Officer (CIO).

[FR Doc. 2016-28011 Filed 11-21-16; 8:45 am]

BILLING CODE 6820-34-P